DEPARTMENT OF COMMERCE

National Oceanic and Atmospheric Administration

[I.D. 082304B]

New England Fishery Management Council; Public Meeting

AGENCY: National Marine Fisheries Service (NMFS), National Oceanic and Atmospheric Administration (NOAA), Commerce.

ACTION: Notice of a public meeting.

SUMMARY: The New England Fishery Management Council (Council) will hold a three-day Council meeting on September 14-16, 2004, to consider actions affecting New England fisheries in the exclusive economic zone (EEZ).

DATES: The meeting will be held on Tuesday, September 14, 2004 beginning at 9 a.m. and on Wednesday and Thursday, September 15 and 16, beginning at 8:30 a.m.

ADDRESSES: The meeting will be held at the Holiday Inn Express, 110 Middle Street, Fairhaven, MA 02719; telephone: (508) 997-1281.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, September 14, 2004

Following introductions, the Council will hold elections for 2004-05 officers. The Council's Habitat/Marine Protected Area Committee will present its recommendations for essential fish habitat measures to be included in Amendment 2 to the Monkfish Fishery Management Plan (FMP). The recommendations will be followed by a brief public comment period during which any member of the public may bring forward items relevant to Council business but not otherwise listed on the agenda for this meeting. The remainder of the day will be spent on sea scallop issues. During the Scallop Committee Report the Council will receive management advice from the Scallop Plan Development Team based on the most recent scallop assessment and discuss the possible initiation of a special framework adjustment to address new management issues during the 2005 fishing year. Management issues under consideration relate to overfishing, sea turtle bycatch mitigation measures, actions to cap or reduce general category scallop landings and/or improve reporting, and measures that would change the 2005 open area days-at-sea allocation as the result of management actions taken in Framework Adjustment 16/39.

Wednesday, September 15, 2004

During the Wednesday morning session the Council will receive reports from the Council Chairman and Executive Director, the NMFS Regional Administrator, Northeast Fisheries Science Center and Mid-Atlantic Fishery Management Council liaisons, NOAA General Counsel and representatives of the U.S. Coast Guard, NMFS Enforcement and the Atlantic States Marine Fisheries Commission. The Monkfish Committee will then ask for final approval of measures to be included in Amendment 2 to the Monkfish FMP. This will occur following review and discussion of Monkfish Advisory Panel and Oversight Committee recommendations and public comments submitted to the Council. This joint FMP also requires approval by the Mid-Atlantic Fishery Management Council prior to the submission of final documents.

Thursday, September 16, 2004

The Research Steering Committee will ask the Council for approval of criteria/standards for determining whether research projects have undergone a sufficient technical review before information is used for management purposes. Other recommendations to be forwarded to the Council address day-at-sea use, the disposition of catch and vessel compensation when boats are engaged in cooperative research. The Red Crab Committee will offer its recommendations for specifications for the 2005 fishing year and for Framework Adjustment 1 to the FMP, an action that could modify the annual review and specification process. The Groundfish Committee will provide an update on the development of Framework Adjustment 40B to the Northeast Multispecies FMP including a review of proposed management measures and grouping of measures into alternatives. In addition, there will be a briefing of recent reports of juvenile haddock incidental catches in the herring mid-water trawl fishery. The Council's Transboundary Management Guidance Committee will report on its recent meeting and offer recommendations for 2005 Total Allowable Catches for yellowtail flounder, cod and haddock in the U.S./Canada area and on other related management issues. The Council meeting will adjourn following after any other outstanding business is addressed.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: August 26, 2004.
Alan D. Risenhoover,
Acting Director, Office of Sustainable Fisheries, National Marine Fisheries Service.

[FR Doc. E4-1981 Filed 8-30-04; 8:45 am]

BILLING CODE 3510-22-5